DEPARTMENT OF HOMELAND SECURITY

Coast Guard

[Docket No. USCG-2020-0278]

Port Access Route Study: Northern New York Bight

AGENCY: Coast Guard, DHS.

ACTION: Notice of availability of draft report and public meeting; request for comments.

SUMMARY: From June 29, 2020, through June 28, 2021, the Coast Guard conducted the Northern New York Bight Port Access Route Study (NNYBPARS) and is now requesting your comments on a draft version of the study report. The goal of the study is to evaluate the adequacy of existing vessel routing measures and determine whether additional vessel routing measures are necessary for port approaches to New York and New Jersey and international and domestic transit areas in the First District area of responsibility. To accomplish this goal, the Coast Guard has undertaken measures to determine whether existing or additional routing measures are necessary to improve navigation safety due to factors such as planned or potential offshore development, current port capabilities and planned improvements, increased vessel traffic, existing and potential anchorage areas, changing vessel traffic patterns, effects of weather, or navigational difficulty. We seek your comments on the content and development of the report.

DATES: Your comments and related material must reach the Coast Guard on or before August 30, 2021.

Although the Coast Guard prefers and highly encourages all comments and related material be submitted directly to the electronic docket, a public meeting will be held via webinar and teleconference to provide an opportunity for oral comments about the NNYBPARS draft report on Friday, July 30, 2020, beginning at 9 a.m. EST.

Additional public meetings dates may be added. Information as to the date, time, and location of these in person public meetings will be posted at https://www.navcen.uscg.gov/?pageName=PARS by July 23, 2021.

ADDRESSES: You may submit comments identified by docket number USCG-2020-0278 using the Federal portal at https://www.regulations.gov. See the “Public Participation and Request for Comments” portion of the SUPPLEMENTARY INFORMATION section for further instructions on submitting comments.

A virtual public meeting on Friday, July 30, 2020, beginning at 9 a.m. EST, will be held via webinar and teleconference.

Access information for this virtual public meeting will be posted at https://www.navcen.uscg.gov/?pageName=PARS by July 23, 2021.

FOR FURTHER INFORMATION CONTACT: If you have questions on this notice, contact Mr. Craig Lapiejko, Waterways Management at First Coast Guard District, telephone (617) 223-8351, email craig.d.lapiejko@uscg.mil.

SUPPLEMENTARY INFORMATION:

I. Table of Abbreviations

ACPARS Atlantic Coast Port Access Route Study

AIS Automatic Identification System

COMDTINST Commandant Instruction

DHS Department of Homeland Security

EEZ Exclusive Economic Zone

IMO International Maritime Organization

MTS Marine Transportation System

NAD83 North American Datum of 1983

NNYB Northern New York Bight

PARS Port Access Route Study

PWSA Ports and Waterways Safety Act

TSS Traffic Separation Scheme

USCG United States Coast Guard

II. Background and Purpose

The Ports and Waterways Safety Act (46 U.S.C. 70003(c)) requires the Coast Guard to conduct a Port Access Route Study (PARS), i.e., a study of potential traffic density and the need for safe access routes for vessels. Through the study process, the Coast Guard coordinates with Federal, State, local, tribal and foreign state agencies (as appropriate) to consider the views of maritime community representatives, environmental groups, and other interested stakeholders. The primary purpose of this coordination is, to the extent practicable, to reconcile the need for safe access routes with other reasonable waterway uses such as construction and operation of renewable energy facilities and other uses of the Atlantic Ocean in the study area.

In 2019, the Coast Guard announced a new study of routes used by ships to access ports on the Atlantic Coast of the United States in the Federal Register (84 FR 9541; March 15, 2019). This new study supplements and builds upon the ACPARS by conducting a series of PARS to examine ports along the Atlantic Coast that are economically significant or support military or critical national defense operations and related international entry and departure transit areas that are integral to the safe and efficient and unimpeded flow of commerce to/from major international shipping lanes. The NNYBPARS is one of several studies being conducted.

On June 29, 2020, the First Coast Guard District published a notice of study and public meetings; request for comments entitled “Port Access Route Study (PARS): Northern New York Bight” in the Federal Register (85 FR 38907) to evaluate the adequacy of existing vessel routing measures and determine whether additional vessel routing measures are necessary for port approaches to New York and New Jersey and international and domestic transit areas in the First District area of responsibility.

The public was afforded a 60-day comment period, and two virtual public meetings were held via teleconference and webinar to receive public input. The Coast Guard received 25 comments to this document in response to our Federal Register Notice, public meetings and other outreach efforts. All comments and supporting documents to this document are available in a public docket and can be viewed at http://www.regulations.gov.

On April 12, 2021, we published a supplemental notice of study; request for comments entitled “Port Access Route Study (PARS): Northern New York Bight” in the Federal Register (86 FR 18996) seeking additional information.

The public was afforded a 30-day comment period. The Coast Guard received five comments to this document in response to our Federal Register Notice, and other outreach efforts. All comments and supporting documents to this document are available in a public docket and can be viewed at http://www.regulations.gov.

During both comment periods a total of 30 comments were submitted by representatives of the maritime community, wind energy developers, non-governmental organizations, Federal and State governmental agencies, and private citizens.

Of the thirty comments, fourteen requested additional routing measures be established, twelve expressed concerns that wind farm installations will negatively affect vessel's marine radar performance, eight requested setback/buffer zones, six requested anchorages be designated, six requested additional meetings, three requested alteration of existing routing measures, and three requested expanding Vessel Traffic Services.

A synopsis of the comments and copies of the Coast Guard's Public outreach can be found in the report. The Coast Guard is opening this third and final NNYBPARS comment period to facilitate transparent public discussions on the information above as well as the draft report findings to date.

III. Information Requested

Do you agree or disagree with the draft report's recommendations, propose actions, or continued actions, and if so, why?

V. Public Participation and Request for Comments

We encourage you to comment on the content and development of the report through the Federal eRulemaking Portal at https://www.regulations.gov.

A. Viewing the draft version of the report: To view the draft version of the NNYBPARS report in the docket, go to http://www.regulations.gov, and insert “USCG-2020-0278” in the “search box.” Click “Search”. Then scroll down looking of the document entitled “DRAFT REPORT Northern New York Bight PARS June 29, 2021” under the document type “Supporting & Related Material.”

B. Submitting Comments: To submit your comment online, go to http://www.regulations.gov, and insert “USCG-2020-0278” in the “search box.” Click “Search”. Then click “Comment.” The “Comment” button can be found on the following pages:

• Docket Details page when a document within the docket is open for comment,

• Document Details page when the document is open for comment, and

• Document Search Tab with all search results open for comment displaying a “Comment” button.

Clicking “Comment” on any of the above pages will display the comment form. You can enter your comment on the form, attach files (maximum of 20 files up to 10MB each), and choose whether to identify yourself as an individual, an organization, or anonymously. Be sure to complete all required fields depending on which identity you have chosen. Once you have completed all required fields and chosen an identity, the “Submit Comment” button is enabled. Upon completion, you will receive a Comment Tracking Number for your comment. For additional step by step instructions, please see the Frequently Asked Questions page on http://www.regulations.gov or by clicking https://www.regulations.gov/faq.

We accept anonymous comments. Comments we post to http://www.regulations.gov and will include any personal information you have provided. For more about privacy and submissions to the docket in response to this document, see DHS's eRulemaking System of Records notice (85 FR 14226, March 11, 2020).

We review all comments and materials received during the comment period, but we may choose not to post off-topic, inappropriate, or duplicate comments that we receive.

C. How do I find and browse for posted comments on Regulations.gov. On the previous version of Regulations.gov, users browse for comments on the Docket Details page. However, since comments are made on individual documents, not dockets, new Regulations.gov organizes comments under their corresponding document. To access comments and documents submitted to this draft version of the study report go to http://www.regulations.gov, and insert “USCG-2020-0278” in the “search box.” Click “Search”. Then scroll down to and click on the “notice” entitled “Port Access Route Study: Notice of availability of draft report and public information session; request for comments.” This will open to the “Document Details” page. Then click on the “Browse Comments” tab. On the comment tab, you can search and filter comments. Note: If no comments have been posted to a document, the “Comments” tab will not appear on the Document Details page.

D. If you need additional help navigating the new Regulations.gov. For additional step by step instructions to submit a comment or to view submitted comments or other documents please see the Frequently Asked Questions (FAQs) at http://www.regulations.gov/faqs or call or email the person in the FOR FURTHER INFORMATION CONTACT section of this document for alternate instructions.

E. Privacy Act: Anyone can search the electronic form of comments received into any of our dockets by the name of the individual submitting the comment (or signing the comment, if submitted on behalf of an association, business, labor union, etc.). You may review a Privacy Act, system of records notice regarding DHS's eRulemaking in the March 11, 2020, issue of the Federal Register (85 FR 14226).

VI. Future Actions

Any comments received will be reviewed and considered before a final version of the NNYBPARS is announced in the Federal Register.

This notice is published under the authority of 46 U.S.C. 70004 and 5 U.S.C. 552(a).

Dated: June 28, 2021.
T.G. Allan Jr.,
Rear Admiral, U.S. Coast Guard, Commander, First Coast Guard District.

[FR Doc. 2021-14757 Filed 7-13-21; 4:15 pm]

BILLING CODE P